DEPARTMENT OF ENERGY

Federal Energy Regulatory Commission

[Docket No. CP21-31-000]

Texas Eastern Transmission, LP; Notice of Schedule for the Preparation of an Environmental Assessment for the Perulack Compressor Units Replacement Project

On January 15, 2021, Texas Eastern Transmission, LP (Texas Eastern) filed an application in Docket No. CP21-31-000 requesting a Certificate of Public Convenience and Necessity pursuant to Section 7(c) and 7(b) of the Natural Gas Act to construct, operate, and abandon certain natural gas pipeline facilities. The proposed project is known as the Perulack Compressor Units Replacement Project (Project), and would abandon by removal four existing compressor units and replace them with two new gas turbines to comply with air emission reduction requirements in Pennsylvania.

On February 2, 2021, the Federal Energy Regulatory Commission (Commission or FERC) issued its Notice of Application for the Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the Project and the planned schedule for the completion of the environmental review.¹

¹ 40 CFR 1501.10 (2020).

Schedule for Environmental Review

Issuance of EA June 4, 2021

90-day Federal Authorization Decision Deadline September 2, 2021

If a schedule change becomes necessary, additional notice will be provided so that the relevant agencies are kept informed of the Project's progress.

Project Description

Texas Eastern proposes to abandon and remove four existing compressor units with a total certificated capacity of 34,800 horsepower (hp), install two new 18,100 hp units, and construct auxiliary appurtenant facilities at its existing Perulack Compressor Station in Juniata County, Pennsylvania. Texas Eastern would install related software controls that would limit each new compressor unit to 17,400 hp to be consistent with the current certificated capacity of the compressor station. Additionally, the Project would construct a new emergency generator, a new compressor building to house the two new compressor units, a new service entry building, two new electric buildings, a new stormwater management retention basin, and convert an existing compressor building into a storage warehouse.

Background

On March 3, 2021, the Commission issued a Notice of Scoping Period Requesting Comments on Environmental Issues for the Proposed Perulack Compressor Units Replacement Project. The Notice of Scoping was sent to affected landowners; federal, state, and local government agencies; elected officials; Native American tribes; and local libraries and newspapers. All substantive comments will be addressed in the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

Additional information about the Project is available from the Commission's Office of External Affairs at (866) 208-FERC or on the FERC website (www.ferc.gov). Using the “eLibrary” link, select “General Search” from the eLibrary menu, enter the selected date range and “Docket Number” excluding the last three digits (i.e., CP21-31), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: March 12, 2021.
Kimberly D. Bose,
Secretary.

[FR Doc. 2021-05619 Filed 3-17-21; 8:45 am]

BILLING CODE 6717-01-P